DEPARTMENT OF HEALTH AND HUMAN SERVICES

National Institutes of Health

Notice to Announce the National Eye Institute (NEI) Draft Strategic Plan, 2020 Vision for the Future; Request for Information

AGENCY: National Institutes of Health, HHS.

ACTION: Notice.

SUMMARY: This Request for Information (RFI) is intended to gather broad public input to assist the National Eye Institute (NEI), National Institutes of Health (NIH) in developing its next strategic plan titled, 2020 Vision for the Future. NEI invites input from vison researchers in academia and industry, health care professionals, patient advocates and advocacy organizations, scientific or professional organizations, federal agencies, and other interested members of the public. Organizations are strongly encouraged to submit a single response that reflects the views of their organization and their membership as a whole.

DATES: This Request for Information is open for public comment for a period of 55 days. Comments must be received by January 8, 2020 to ensure consideration.

ADDRESSES: Comments must be submitted at electronically using the web-based form available at www.nei.nih.gov/form/rfi.

FOR FURTHER INFORMATION CONTACT: Please direct all inquiries to NEIplan@mail.NIH.gov and to Nora Wong, 301-496-4308, nora.wong@NIH.gov. To learn about strategic planning activities at NEI, please visit www.nei.nih.gov/about/strategic-planning.

SUPPLEMENTARY INFORMATION: Last year, NEI celebrated the 50th anniversary since being established by Congress established in 1968. NEI highlighted the multitude of scientific and medical advances made by NEI-supported researchers and the impacts on vision care. Charged to protect and preserve the vision of the American people, NEI continues to support basic and clinical research that unravels the mysteries of how vision works at a fundamental level and provides patients with new therapies and standards of care that maintain and improve quality of life.

The NEI 50th Anniversary also provoked the scientific, medical, and patient communities to reflect upon gaps and opportunities in vision research. The NEI Strategic Plan seeks to distill those reflections into a cohesive document that will guide efforts to address those gaps and opportunities over the next five years. Ultimately, NEI stakeholders provide the catalyst for identifying and implementing the goals. To that end, NEI welcomes feedback from stakeholders in the drafting of the strategic plan.

In accordance with the 21st Century Cures Act, NIH institutes are required to regularly update their strategic plans.

In 2012, NEI released its strategic plan, “Vision Research: Needs, Gaps, and Opportunities” ( ), organized around its six core anatomically focused program areas (Retinal Diseases; Corneal Diseases; Lens and Cataract; Glaucoma and Optic Neuropathies; Strabismus, Amblyopia, and Visual Processing; Low Vision and Blindness Rehabilitation). In developing that plan, NEI created panels of scientists and patient representatives for each program. The plan also sparked the Audacious Goals Initiative (AGI), which sought broad-based community input to identify ideas to transform vision research and care. NEI wants to build on some of the ideas generated through AGI and has proposed cross-cutting Areas of Emphasis to organize thinking for the next NEI strategic plan.

NEI is seeking input on the following questions:

• What are the most significant scientific discoveries in vision research since 2012?

• What new opportunities have been enabled by scientific discoveries or technology development?

• What needs and gaps in research, health, and quality-of-life should be addressed by the NEI?

To organize the planning process, NEI has proposed the following seven cross-cutting Areas of Emphasis to foster dialogues across traditional vision research disciplines and to best capitalize on recent scientific opportunities. NEI is particularly interested in input relating to these areas of emphasis. However, NEI has always been—and will continue to be—committed to high quality investigator-initiated research and will fund the best science across the broad spectrum of vision research.

Visual System in Health and Disease

○ From Genes to Disease Mechanisms

○ Biology and Neuroscience of Vision

○ Immune System & Eye Health

Capitalizing on Emerging Fields

○ Regenerative Medicine

○ Data Science

Preventing Vision Loss and Enhancing Well-Being

○ Individual Quality of Life

○ Public Health & Disparities Research

To ensure consideration, responses must be submitted electronically using the web-based form available at www.nei.nih.gov/form/rfi. Responses to this RFI are voluntary and may be submitted anonymously. Providing contact information is optional. Therefore, the web form may not provide confirmation of response submission. Please do not include any personally identifiable or other information that you do not wish to make public. Proprietary, classified, confidential, or sensitive information should not be included in responses. Comments submitted will be compiled for discussion and incorporated into the strategic plan as appropriate. Any personal identifiers (personal names, email addresses, etc.) will be removed when responses are compiled.

This RFI is for informational and planning purposes only and is not a solicitation for applications or an obligation on the part of the United States (U.S.) Government to provide support for any ideas identified in response to it. Please note that the U.S Government will not pay for the preparation of any information submitted or for use of that information.

The responses will be reviewed by NIH staff, and individual feedback will not be provided to any responder. The Government will use the information submitted in response to this RFI at its discretion. The Government reserves the right to use any submitted information on public NIH websites, in reports, in summaries of the state of the science, in any possible resultant solicitation(s), grant(s), or cooperative agreement(s), or in the development of future funding opportunity announcements.

Dated: December 3, 2019.
Shefa Gordon,
Associate Director for Science Policy and Legislation, National Eye Institute, National Institutes of Health.

[FR Doc. 2019-26451 Filed 12-6-19; 8:45 am]

BILLING CODE 4140-01-P